ENVIRONMENTAL PROTECTION AGENCY

40 CFR Part 81

[EPA-HQ-OAR-2007-0562; FRL-8709-2]

EPA Responses to State and Tribal 2006 24-Hour PM2.5 Designation Recommendations: Notice of Availability and Public Comment Period

AGENCY: Environmental Protection Agency (EPA).

ACTION: Notice of availability and public comment period.

SUMMARY: Notice is hereby given that the EPA has posted its responses to state and tribal designation recommendations for the 2006 24-hour fine particles (PM2.5) National Ambient Air Quality Standards (NAAQS) on its Internet Web site at http://www.epa.gov/pmdesignations/2006standards/index.htm. EPA invites public comments on its responses during the 30-day comment period specified below. EPA sent responses directly to the states on August 19 and tribes on or around August 20, 2008, and plans to make final designation determinations for the 2006 24-hour PM2.5 NAAQS by December 18, 2008.

DATES: Comments must be received on or before October 2, 2008. Please refer to SUPPLEMENTARY INFORMATION for additional information on the comment period.

ADDRESSES: Submit your comments, identified by Docket ID No. OAR-2007-0562, by one of the following methods:

• http://www.regulations.gov. Follow the on-line instructions for submitting comments.

• E-mail: a-and-r-docket@epa.gov. Attention Docket ID No. EPA-HQ-OAR-2007-0562.

• Fax: 202-566-9744. Attention Docket ID No. EPA-HQ-OAR-2007-0562.

• Mail: Air Docket, Attention Docket ID No. EPA-HQ-OAR-2007-0562, Environmental Protection Agency, Mail Code: 6102T, 1200 Pennsylvania Ave., NW., Washington, DC 20460.

• Hand Delivery: EPA Docket Center, 1301 Constitution Avenue, NW., Room 3334, Washington, DC. Such deliveries are only accepted during the Docket's normal hours of operation, and special arrangements should be made for deliveries of boxed information.

Instructions: Direct your comments to Docket ID No. EPA-HQ-OAR-2007-0562. The EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The http://www.regulations.gov Web site is “anonymous access” systems, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA is unable to read your comment and contact you for clarification due to technical difficulties, EPA may not be able to consider your comment. Electronic files should avoid the use of special characters, any form of encryption, and be free of any defects or viruses. For additional information about EPA's public docket, visit the EPA Docket Center home page at http://www.epa.gov/epahome/dockets.htm. For additional instructions on submitting comments, go to Section II of the SUPPLEMENTARY INFORMATION section of this document.

Docket: All documents in the docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the EPA Docket Center, EPA West, Room 3334, 1301 Constitution Avenue, NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For general questions concerning this action, please contact Ben Gibson, U.S. EPA, Office of Air Quality Planning and Standards, Air Quality Planning Division, C504-01, Research Triangle Park, NC 27711, telephone (919) 541-3065, e-mail at gibson.ben@epa.gov. For questions regarding EPA Region 1, please contact Alison Simcox, U.S. EPA, telephone (617) 918-1684, e-mail at simcox.alison@epa.gov. For questions regarding EPA Region 2, please contact Kenneth Fradkin, U.S. EPA, telephone (212) 637-3702, e-mail at fradkin.kenneth@epa.gov. For questions regarding EPA Region 3, please contact Maria Pino, U.S. EPA, telephone (215) 814-2181, e-mail at pino.maria@epa.gov. For questions regarding EPA Region 4, please contact Steve Scofield, U.S. EPA, telephone (404) 562-9034, e-mail at scofield.steve@epa.gov. For questions regarding EPA Region 5, please contact John Summerhays, U.S. EPA, telephone (312) 886-6067, e-mail at summerhays.john@epa.gov. For questions regarding EPA Region 6, please contact Joe Kordzi, U.S. EPA, telephone (214) 665-7186, e-mail at kordzi.joe@epa.gov. For questions regarding EPA Region 7, please contact Amy Algoe-Eakin, U.S. EPA, telephone (913) 551-7942, e-mail at algoe-eakin.amy@epa.gov. For questions regarding EPA Region 8, please contact Catherine Roberts, U.S. EPA, telephone (303) 312-6025, e-mail at roberts.catherine@epa.gov. For questions regarding EPA Region 9, please contact Eleanor Kaplan, U.S. EPA, telephone (415) 947-4147, e-mail at kaplan.eleanor@epa.gov. For questions regarding EPA Region 10, please contact Krishna Viswanathan, U.S. EPA, telephone (206) 553-2684, e-mail at viswanathan.krishna@epa.gov.

SUPPLEMENTARY INFORMATION:

I. General Information

A. What Should I Consider as I Prepare My Comments for EPA?

1. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Roberto Morales, U.S. EPA, Office of Air Quality Planning and Standards, Mail Code C404-02, Research Triangle Park, NC 27711, telephone (919) 541-0880, e-mail at morales.roberto@epa.gov, Attention: Docket ID No. OAR-2007-0562.

2. Tips for Preparing Your Comments. When submitting comments, remember to:

• Identify the rulemaking by docket number and other identifying information (subject heading, Federal Register date and page number).

• Follow directions. The Agency may ask you to respond to specific questions or organize comments by referencing a Code of Federal Regulations (CFR) part or section number.

• Explain why you agree or disagree; suggest alternatives and substitute language for your requested changes.

II. Background

The process for designating areas following promulgation of a new or revised NAAQS is contained in Clean Air Act (CAA) Section 107(d) (42 U.S.C. 7407). Following the promulgation of a new or revised standard, each Governor or Tribal Leader has an opportunity to recommend air quality designations, including the appropriate boundaries for nonattainment areas, to EPA. EPA considers these recommendations as part of its duty to promulgate the formal area designations and boundaries for the new or revised standards. By no later than 120 days prior to promulgating designations, EPA is required to notify states or tribes of any intended modification to an area designation or boundary recommendation that EPA deems necessary. On or around August 19 and 20, 2008, EPA notified states and tribes of its intended area designations for the 2006 24-hour PM2.5 NAAQS. States and tribes now have an opportunity to demonstrate why they believe a modification proposed by EPA may be inappropriate. In these responses, EPA encourages states and tribes to provide comments and additional information for consideration by EPA in finalizing designations. EPA plans to make final designation determinations for the 2006 24-hour PM2.5 NAAQS by December 18, 2008.

The purpose of this notice is to solicit public comments from interested parties other than states and tribes on EPA's recent responses to the state and tribal designation recommendations for the 2006 24-hour PM2.5 NAAQS. CAA Section 107(d) provides a process for designations that involves recommendations by states and tribes to EPA and responses from EPA to those parties, prior to EPA promulgating final designations and boundaries. EPA is not required under CAA Section 107(d) to seek public comment during the designation process, but is electing to do so for the 2006 24-hour PM2.5 NAAQS in order to gather additional information for EPA to consider before making final designations. EPA invites public comment on its responses to states and tribes during the 30-day comment period provided in this notice. Due to the statutory timeframe for promulgating designations set out in CAA Section 107(d), EPA will not be able to consider any comments submitted after October 2, 2008, notwithstanding what may have appeared in any state-specific announcements. This notice and opportunity for public comment does not affect any rights or obligations of any state, tribe or the EPA which might otherwise exist pursuant to CAA section 107(d).

Please refer to the ADDRESSES section above in this document for specific instructions on submitting comments and locating relevant public documents.

• In providing comments to EPA please consider the agency's charge under CAA section 107(d). Under this section, EPA is obligated to identify every area as attainment, nonattainment, or unclassifiable. Further, in establishing nonattainment area boundaries, the agency is required to identify the area that does not meet the 2006 PM2.5 24-hour standard and any nearby area that is contributing to the area that does not meet that standard. If you believe that a specific geographic area that EPA is proposing to identify as a nonattainment area should not be categorized by the section 107(d) criteria as nonattainment, or if you believe that a specific area not proposed by EPA to be identified as a nonattainment area should in fact be categorized as nonattainment using the section 107(d) criteria, please be as specific as possible in supporting your belief.

• Describe any assumptions and provide any technical information and/or data that you used.

• Provide specific examples to illustrate your concerns, and suggest alternatives.

• Explain your views as clearly as possible, avoiding the use of profanity or personal threats.

• Make sure to submit your comments by the comment period deadline identified.

III. Internet Web Site for Rulemaking Information

The EPA has also established a Web site for this rulemaking at http://www.epa.gov/pmdesignations/2006standards/index.htm. The Web site includes EPA's state and tribal designation recommendations, as well as the rulemaking actions and other related information that the public may find useful.

Dated: August 20, 2008.
Jenny Noonan Edmonds,
Acting Director, Office of Air Quality Planning and Standards.

[FR Doc. E8-20241 Filed 8-29-08; 8:45 am]

BILLING CODE 6560-50-P